DEPARTMENT OF THE INTERIOR

Minerals Management Service

Outer Continental Shelf (OCS), Chukchi Sea Oil and Gas Lease Sale 193

AGENCY: Minerals Management Service (MMS), Interior.

ACTION: Availability of the Proposed Notice of Sale.

SUMMARY: The MMS announces the availability of the Proposed Notice of Sale for Oil and Gas Lease Sale 193 in the Chukchi Sea. This Notice is published pursuant to 30 CFR 256.29(c) as a matter of information to the public. With regard to oil and gas leasing on the OCS, the Secretary of the Interior, pursuant to section 19 of the OCS Lands Act, provides the affected States the opportunity to review the Proposed Notice. The Proposed Notice sets forth the proposed terms and conditions of the sale, including minimum bids, royalty rates, and rentals.

DATES: Comments of the size, timing, and location of the proposed Sale 193 are due from the State of Alaska within 60 days after its receipt of the Proposed Notice of Sale. The Final Notice of Sale will be published in the Federal Register at least 30 days prior to the date of bid opening. Bid opening is currently scheduled for February 6, 2008.

SUPPLEMENTARY INFORMATION: The Proposed Notice of Sale for Sale 193 and a “Proposed Sale Notice Package” containing information essential to potential bidders may be obtained by mail from the Alaska OCS Region, Information Resource Center, Minerals Management Service, 3801 Centerpoint Drive, Suite 500, Anchorage, Alaska 99503-5823; telephone: (907) 334-5200 or 1-800-764-2627. Certain documents may be viewed and downloaded from the MMS Web site at http://www.mms.gov/alaska.

Dated: July 27, 2007.
Walter D. Cruickshank,
Acting Director, Minerals Management Service.

[FR Doc. E7-15079 Filed 8-2-07; 8:45 am]

BILLING CODE 4310-MR-P